DEPARTMENT OF COMMERCE

International Trade Administration

[A-570-846]

Brake Rotors From the People's Republic of China: Postponement of Final Results of Second Antidumping Duty Administrative Review and Third New Shipper Review

AGENCY: Import Administration, International Trade Administration, Department of Commerce.

ACTION: Notice of extension of the time limit for the final results in the second antidumping duty administrative review and third new shipper review of the antidumping duty order on brake rotors from the People's Republic of China.

SUMMARY: The Department of Commerce is extending the time limit for the final results of the second antidumping duty administrative review and third new shipper review of the antidumping duty order on brake rotors from the People's Republic of China. This review covers the period April 1, 1998, through March 31, 1999.

EFFECTIVE DATE: April 11, 2000.

FOR FURTHER INFORMATION CONTACT: Brian Smith or Terre Keaton, Import Administration, International Trade Administration, U.S. Department of Commerce, 14th Street and Constitution Avenue, NW, Washington, DC 20230; telephone: (202) 482-1766 or (202) 482-1280, respectively.

Postponement of Final Results of Review

The Department of Commerce (“the Department”) published the preliminary results of the second antidumping administrative review and third new shipper review on brake rotors from the People's Republic of China (“PRC”) on December 29, 1999 (64 FR 73007). The current deadline for the final results in these reviews is April 27, 2000. In accordance with section 751(a)(3)(A) of the Tariff Act of 1930 (“the Act”), as amended, we determine that it is not practicable to complete these reviews within the original time frame because of the Department's decision to verify certain respondents in these reviews (see March 29, 2000, letter from Deputy Assistant Secretary Richard W. Moreland to Mr. Leslie Glick, counsel for the petitioner in these reviews). We are currently unable to conduct verification and allow sufficient opportunity for the submission of interested party comments, prior to the current final results deadline. Thus, in accordance with section 751(a)(3)(A) of the Act and section 351.213(h)(2) of the Department's regulations, the Department is extending the time limit for completion of the final results of these reviews until October 24, 2000, which is 300 days after the date on which the notice of the preliminary results was published in the Federal Register.

Dated: April 4, 2000.
Richard W. Moreland,
Deputy Assistant Secretary for Import Administration.

[FR Doc. 00-8986 Filed 4-10-00; 8:45 am]

BILLING CODE 3510-DS-P